DEPARTMENT OF TRANSPORTATION

National Highway Traffic Safety Administration

[Docket No. NHTSA-2006-26555]

The New Car Assessment Program; Suggested Approaches for Enhancements

AGENCY: National Highway Traffic Safety Administration (NHTSA), Department of Transportation (DOT).

ACTION: Correction of Public Hearing Time.

Correction

In notice document Volume 72 Number 16 beginning on page 3473 on the issue date of January 25, 2007, make the following correction to the meeting time posted:

1. On page 3473, under Public Hearing, the beginning time is corrected to read as 8:30 a.m.

Authority: 49 U.S.C. 30111, 30168; delegation of authority at 49 CFR 1.50 and 501.8.

Issued on: February 27, 2007.
Stephen R. Kratzke,
Associate Administrator for Rulemaking.

[FR Doc. E7-3814 Filed 3-5-07; 8:45 am]

BILLING CODE 4910-59-P